DEPARTMENT OF ENERGY

Federal Energy Regulatory Commission

[Docket No. CP07-87-000]

National Fuel Gas Supply Corporation; Notice of Request Under Blanket Authorization

February 27, 2007.

Take notice that on February 21, 2007, National Fuel Gas Supply Corporation (National Fuel), 6363 Main Street, Williamsville, New York 14221, filed in Docket No. CP07-87-000, a prior notice request pursuant to sections 157.205, 157.208, and 157.210 of the Federal Energy Regulatory Commission's regulations under the Natural Gas Act to increase the horsepower of its Knox Compressor Station, located in Jefferson County, Pennsylvania, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TTY, (202) 502-8659.

Specifically, National Fuel proposes to increase the horsepower of its Knox Compressor Station from 1,920 horsepower to 1,968 horsepower. National Fuel states that it would uprate compressor units 3 and 4 from 360 horsepower to 384 horsepower, by increasing the maximum speed of the existing units from 400 RPM to 440 RPM. National Fuel indicates that this work would consist of mechanical, engine, and ignition modifications and related engine and control panel tuning. National Fuel estimates the cost of construction to be $75,000. National Fuel's filing states that this project would create additional capacity from Knox Compressor Station to Overbeck, Pennsylvania on its Line G-M97.

Any questions regarding the application should be directed to David W. Reitz, Deputy General Counsel, National Fuel Gas Supply Corporation, 6363 Main Street, Williamsville, New York 14221, or call at (716) 857-7949.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a) (1) (iii) and the instructions on the Commission's Web site (http://www.ferc.gov) under the “e-Filing” link.

Magalie R. Salas,
Secretary.

[FR Doc. E7-3972 Filed 3-6-07; 8:45 am]

BILLING CODE 6717-01-P